DEPARTMENT OF ENERGY

Office of Science; DOE/Advanced Scientific Computing Advisory Committee

AGENCY: Department of Energy.

ACTION: Notice of open meeting.

SUMMARY: This notice announces a meeting of the Advanced Scientific Computing Advisory Committee (ASCAC). Federal Advisory Committee Act (Pub. L. 92-463, 86 Stat. 770) requires that public notice of these meetings be announced in the Federal Register.

DATES: Tuesday, August 14, 2007, 9 a.m. to 5 p.m.; Wednesday, August 15, 2007, 9 a.m. to 11:45 a.m.

ADDRESSES: American Geophysical Union (AGU), 2000 Florida Avenue, NW., Washington, DC 20009-1277.

FOR FURTHER INFORMATION CONTACT: Melea Baker, Office of Advanced Scientific Computing Research; SC-21/Germantown Building; U.S. Department of Energy; 1000 Independence Avenue, SW.; Washington, DC 20585-1290; Telephone (301) 903-7486, (E-mail: Melea.Baker@science.doe.gov).

SUPPLEMENTARY INFORMATION: Purpose of the Meeting: The purpose of this meeting is to provide advice and guidance on the advanced scientific computing research program.

Tentative Agenda: Agenda will include discussions of the following:

Tuesday, August 14, 2007

Opening Remarks from the Committee Chair

Federal Advisory Committee Act Basics

View from Washington and Germantown

ESnet Workshops

Report Discussions on Scientific Discovery through Advanced Computing (SciDAC) Committee of Visitors (COV)

Report Discussion on Charge—Networking

Report Discussion on Charge—Joint Panel with the Biological and Environmental Research Advisory Committee (BERAC) on Genomes to Life (GTL)

Role of High Productivity Computing (HPC) in BER

New Charge—Joint Panel with BERAC on Climate Modeling

Presentation on Town Hall Meetings

What's Going on in European and Asian Supercomputing

Update on Incite

Public Comment

Wednesday, August 15, 2007

Update on High Productivity Computing System (HPCS)

Update on SciDAC

New Charge—Assessing the Strategic Priorities and Balance of the ASCR Program

The Future of Performance Engineering in HPC

Improving R&D Integration in DOE

Public Comment

Public Participation: The meeting is open to the public. If you would like to file a written statement with the Committee, you may do so either before or after the meeting. If you would like to make oral statements regarding any of the items on the agenda, you should contact Melea Baker via Fax at (301) 903-4846 or via e-mail (Melea.Baker@science.doe.gov). You must make your request for an oral statement at least 5 business days prior to the meeting. Reasonable provision will be made to include the scheduled oral statements on the agenda. The Chairperson of the Committee will conduct the meeting to facilitate the orderly conduct of business. Public comment will follow the 10-minute rule.

Minutes: The ASCAC will prepare meeting minutes within 45 days of the meeting. The minutes will be posted on the ASCAC Web site at http://www.sc.doe.gov/ascr/ASCAC/LastMeet.

Issued in Washington, DC on June 28, 2007.
Rachel Samuel,
Deputy Advisory Committee Management Officer.

[FR Doc. E7-13109 Filed 7-5-07; 8:45 am]

BILLING CODE 6450-01-P